FARM CREDIT SYSTEM INSURANCE CORPORATION

Farm Credit System Insurance Corporation Board; Regular Meeting

SUMMARY: Notice is hereby given of the regular meeting of the Farm Credit System Insurance Corporation Board (Board).

Date and Time: The meeting of the Board will be held at the offices of the Farm Credit Administration in McLean, Virginia, on September 11, 2008, from 10 a.m. until such time as the Board concludes its business.

FOR FURTHER INFORMATION CONTACT: Roland E. Smith, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Open Session

A. Approval of Minutes

• June 12, 2008

B. Business Reports

• June 30, 2008 Financial Report

• Report on Insured and Other Obligations

• Quarterly Report on Annual Performance Plan

C. New Business

• Annual Performance Plan FY 2009-2010

• Proposed 2009 and 2010 Budgets

• Insurance Fund Progress Review and Setting of Premium Range Guidance for 2009

Closed Session

• Report on System Performance

Dated: August 27, 2008.
Roland E. Smith,
Secretary, Farm Credit System Insurance Corporation Board.

[FR Doc. E8-20380 Filed 9-2-08; 8:45 am]

BILLING CODE 6710-01-P